DEPARTMENT OF TRANSPORTATION

Federal Aviation Administration

Notice of Intent To Rule on Application To Impose a Passenger Facility Charge (PFC) at General Mitchell International Airport, Milwaukee, WI and To Use the Revenue at General Mitchell International Airport and Lawrence J. Timmerman, Milwaukee, WI

AGENCY: Federal Aviation Administration (FAA), DOT.

ACTION: Notice of intent to rule on application.

SUMMARY: The FAA proposes to rule and invites public comment on the application to impose a PFC at General Mitchell International Airport and to use the revenue at General Mitchell International Airport and Lawrence J. Timmerman under the provisions of the Aviation Safety and Capacity Expansion Act of 1990 (Title IX of the Omnibus Budget Reconciliation Act of 1990) (Pub. L. 101-508) and Part 158 of the Federal Aviation Regulations (14 CFR Part 158).

DATES: Comments must be received on or before October 30, 2000.

ADDRESSES: Comments on this application may be mailed or delivered in triplicate to the FAA at the following address: Minneapolis Airports District Office, 6020 28th Avenue South, Room 102, Minneapolis, Minnesota 55450.

In addition, one copy of any comments submitted to the FAA must be mailed or delivered to C. Barry Bateman, Airport Director of the General Mitchell International Airport, Milwaukee, WI at the following address: 5300 S. Howell Ave., Milwaukee, WI 53207-6189.

Air carriers and foreign air carriers may submit copies of written comments previously provided to the Milwaukee County under section 158.23 of part 158.

FOR FURTHER INFORMATION CONTACT: Sandra E. DePottey, Program Manager, Minneapolis Airports District Office, 6020 28th Avenue South, Room 102, Minneapolis, MN 55450, 612-713-4363. The application may be reviewed in person at this same location.

SUPPLEMENTARY INFORMATION: The FAA proposes to rule and invites public comment on the application to impose a PFC at General Mitchell International Airport and to use the revenue at General Mitchell International Airport and Lawrence J. Timmerman under the provisions of the Aviation Safety and Capacity Expansion Act of 1990 (Title IX of the Omnibus Budget Reconciliation Act of 1990) (Pub. L. 101-508) and part 158 of the Federal Aviation Regulations (14 CFR Part 158).

On September 6, 2000, the FAA determined that the application to impose and use the revenue from a PFC submitted by Milwaukee County was substantially complete within the requirements of § 158.25 of Part 158. The FAA will approve or disapprove the application, in whole or in part, no later than December 5, 2000.

The following is a brief overview of the application.

PFC application number: 06-00-C-00-MKE.

Level of proposed PFC: $3.00.

Proposed charge effective date: June 1, 2004.

Proposed charge expiration date: July 1, 2006.

Total estimated PFC revenue: $22,667,375.00.

Brief description of the proposed projects:

Impose and use General Mitchell: Rehabilitate taxiway A and A3, reconstruct perimeter road, rehabilitate runway 7R/25L, C concourse stem and 6 gate expansion (design), acquire flight information display and paging system, master plan update, terminal apron joint repair, seal coating runway 71/25R and runway 13/31, conduct electrical master plan study, rehabilitate taxiway B from R to G, construct abrasive storage building, upgrade security system, install runway 1L/19R centerline and touchdown zone lighting, C concourse taxiway expansion, baggage claim remodeling (design), rehabilitate taxiway M at B, construct maintenance storage building, construct hush house noise suppressor structure (design). Impose and use Lawrence J. Timmerman: pavement rehabilitation. Impose only General Mitchell: C concourse stem and 6 gate expansion (construction).

Class or classes of air carriers which the public agency has requested not be required to collect PFCs: air taxi/commercial operators filing FAA form 1800-31.

Any person may inspect the application in person at the FAA office listed above under FOR FURTHER INFORMATION CONTACT.

In addition, any person may, upon request, inspect the application, notice and other documents germane to the application in person at Milwaukee County.

Issued in Washington, D.C. on September 21, 2000.
Eric Gabler,
Manager, Passenger Facility Charge Branch, Airports Division.

[FR Doc. 00-24867 Filed 9-27-00; 8:45 am]

BILLING CODE 4910-13-M